FEDERAL COMMUNICATIONS COMMISSION

[DA 02-405]

Consumer/Disability Telecommunications Advisory Committee

AGENCY: Federal Communications Commission.

ACTION: Notice.

SUMMARY: This document announces the date, time, and agenda for the next meeting of the Consumer/Disability Telecommunications Advisory Committee (hereinafter “the Committee”), whose purpose is to make recommendations to the Commission regarding consumer and disability issues within the jurisdiction of the Commission and to facilitate the participation of consumers (including people with disabilities and underserved populations) in proceedings before the Commission.

DATES: The meeting of the Committee will take place on March 15, 2002, from 9 a.m. to 5 p.m.

ADDRESSES: The Committee will meet at the Federal Communications Commission, Room TW-C305, 445 12th Street, SW., Washington, DC 20554.

FOR FURTHER INFORMATION CONTACT: Scott Marshall, Designated Federal Officer, Consumer/Disability Telecommunications Advisory Committee, Consumer Information Bureau, Federal Communications Commission, 445 12th Street, SW., Washington, DC 20554. Telephone 202-418-2809 (voice) or 202-418-0179 (TTY); e-mail: cdtac@fcc.gov.

SUPPLEMENTARY INFORMATION: By Public Notice dated and released February 21, 2002, the Federal Communications Commission announced the next meeting of its Consumer/Disability Telecommunications Advisory Committee. The establishment of the Committee had been announced by Public Notice dated November 30, 2000, 15 FCC Rcd 23798, as published in the Federal Register (65 FR 76265, December 6, 2000).

At the March 15, 2002 meeting, the Committee will consider and make recommendations concerning various proposed rules currently before the Commission of particular interest to consumers. The Committee's agenda will include, but is not limited to, proposals relating to the Commission's consumer complaint process, hearing aid compatible wireless telephones, and the Lifeline and Link-up universal service support programs.

Availability of Copies and Electronic Accessibility

A copy of the February 20, 2002 Public Notice is available in alternate formats (Braille, cassette tape, large print or diskette) upon request. It is also posted on the Commission's Web site at www.fcc.gov/cib/cdtac. The Committee meeting will be broadcast on the Internet in Real Audio/Real Video format with captioning at www.fcc.gov/cib/cdtac. The meeting will be sign language interpreted and realtime transcription and assistive listening devices will also be available. The meeting site is fully accessible to people with disabilities. Copies of meeting agendas and handout material will also be provided in accessible formats. Meeting minutes will be available for public inspection at the FCC headquarters building and will be posted on the Commission's Web site at www.fcc.gov/cib/cdtac.

Committee meetings will be open to the public and interested persons may attend the meetings and communicate their views. Members of the public will have an opportunity to address the Committee on issues of interest to them and the Committee. Written comments for the Committee may also be sent to the Committee's Designated Federal Officer, Scott Marshall. Notices of future meetings of the Committee will be published in the Federal Register.

Margaret Egler,
Deputy Bureau Chief, Consumer Information Bureau.

[FR Doc. 02-4695 Filed 2-27-02; 8:45 am]

BILLING CODE 6712-01-M